DEPARTMENT OF HOMELAND SECURITY

U.S. Customs and Border Protection

DEPARTMENT OF THE TREASURY

19 CFR Part 12

[USCBP-2016-0011; CBP Dec. 16-29]

RIN 1515-AE11

Delay of Effective Date for Importations of Certain Vehicles and Engines Subject to Federal Antipollution Emission Standards

AGENCIES: U.S. Customs and Border Protection, Department of Homeland Security; Department of the Treasury.

ACTION: Final rule; delay of effective date.

SUMMARY: On December 27, 2016, U.S. Customs and Border Protection (CBP) published a Final Rule in the Federal Register announcing amendments to CBP regulations relating to the importation into the United States of certain vehicles and engines under the Clean Air Act (CAA) in order to harmonize the documentation requirements applicable to different classes of vehicles and engines that are subject to the CAA's emission standards. That document further amended the regulations to permit importers to file the required U.S. Environmental Protection Agency (EPA) Declaration Forms with CBP electronically, and amended non-substantive provisions to update regulatory citations and delete obsolete provisions. The changes announced in that Final Rule were to be effective January 26, 2017. This notice announces that the effective date of the Final Rule is delayed for 60 days from January 20, 2017.

DATES: This regulation is effective January 25, 2017. The effective date of the rule amending 19 CFR part 12 published at 81 FR 94974, December 27, 2016 is delayed until March 21, 2017.

FOR FURTHER INFORMATION CONTACT: For questions related to the filing of EPA forms with CBP, please contact William Scopa, Partner Government Agencies Interagency Collaboration Division, Office of Trade, Customs and Border Protection, at William.R.Scopa@cbp.dhs.gov. For questions related to EPA's vehicle and engine imports program, please contact Holly Pugliese at pugliese.holly@epa.gov.

SUPPLEMENTARY INFORMATION: On December 27, 2016, U.S. Customs and Border Protection (CBP) published a Final Rule in the Federal Register (81 FR 94974) announcing the amendment of CBP regulations relating to the importation into the United States of certain vehicles and engines under the Clean Air Act (CAA) in order to harmonize the documentation requirements applicable to different classes of vehicles and engines that are subject to the CAA's emission standards. The document further amended the regulations to permit importers to file the required U.S. Environmental protection Agency (EPA) Declaration Forms with CBP electronically, and amended non-substantive provisions to update regulatory citations and delete obsolete provisions. The rule was to become effective on January 26, 2017.

On January 20, 2017, the Chief of Staff of the White House released a memorandum to ensure that the President's appointees or designees have the opportunity to review any new or pending regulations. The memorandum asks the heads of executive departments and agencies to temporarily postpone the effective date for 60 days from the date of the memorandum of all regulations that had been published in the Federal Register, but had not taken effect. In light of this memo, CBP has considered whether entities affected by these final regulations will need additional time to implement new systems or internal procedural changes. To provide additional time for affected entities to become familiar with the increased flexibilities and new processes of the final regulations, CBP believes that extending the effective date until March 21, 2017 is appropriate and will furnish the affected entities with sufficient additional time.

Executive Order 12866

It has been determined that this final rule is not a significant regulatory action as defined in Executive Order 12866. Therefore, a Regulatory Assessment is not required.

Regulatory Flexibility Act

Because no notice of proposed rulemaking is required for this final rule, the provisions of the Regulatory Flexibility Act (5 U.S.C. 601 et seq.) do not apply.

Administrative Procedure Act

CBP and Treasury, for good cause and the reasons cited above, including the brief length of the extension of the effective date, find that notice and solicitation of comment regarding the extension of the effective date for the final regulation are impracticable, unnecessary, or contrary to the public interest pursuant to 5 U.S.C. 553(b)(B). CBP and Treasury also believe that affected entities need to be informed as soon as possible of the extension and its length in order to plan and adjust their implementation process accordingly.

Unfunded Mandates Reform Act (Sec. 202, Pub. L. 104-4; 2 U.S.C. 1532)

CBP and Treasury have concluded the extension of the effective date does not contain a Federal mandate that may result in the expenditure by State, local and Tribal governments, in aggregate, or by the private sector, of $100 million or more (adjusted for inflation) in any one year.

Kevin K. McAleenan,
Acting Commissioner, U.S. Customs and Border Protection.
Approved: January 25, 2017.
Timothy E. Skud,
Deputy Assistant Secretary of the Treasury.

[FR Doc. 2017-01963 Filed 1-25-17; 4:15 pm]

BILLING CODE 9111-14-P